INTERNATIONAL TRADE COMMISSION

[Investigation No. 337-TA-946]

Certain Ink Cartridges and Components Thereof: Institution of Investigation

AGENCY: U.S. International Trade Commission.

ACTION: Notice.

SUMMARY: Notice is hereby given that a complaint was filed with the U.S. International Trade Commission on December 23, 2014, under section 337 of the Tariff Act of 1930, as amended, 19 U.S.C. 1337, on behalf of Epson Portland Inc. of Hillsboro, Oregon; Epson America, Inc. of Long Beach, California; and Seiko Epson Corporation of Japan. The complaint alleges violations of section 337 based upon the importation into the United States, the sale for importation, and the sale within the United States after importation of certain ink cartridges and components thereof by reason of infringement of certain claims of U.S. Patent No. 8,366,233 (“the '233 patent”); U.S. Patent No. 8,454,116 (“the '116 patent”); U.S. Patent No. 8,794,749 (“the '749 patent”); U.S. Patent No. 8,801,163 (“the '163 patent”); and U.S. Patent No. 8,882,513 (“the '513 patent”). The complaint further alleges that an industry in the United States exists as required by subsection (a)(2) of section 337.

The complainants request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

SUPPLEMENTARY INFORMATION:

Institution of Investigation Pursuant to 19 U.S.C. 1337

Authority: The authority for institution of this investigation is contained in section 337 of the Tariff Act of 1930, as amended, and in section 210.10 of the Commission's Rules of Practice and Procedure, 19 CFR 210.10 (2014).

Scope of Investigation: Having considered the complaint, the U.S. International Trade Commission, on January 20, 2015, ORDERED THAT—

(1) Pursuant to subsection (b) of section 337 of the Tariff Act of 1930, as amended, an investigation be instituted to determine whether there is a violation of subsection (a)(1)(B) of section 337 in the importation into the United States, the sale for importation, or the sale within the United States after importation of certain ink cartridges and components thereof by reason of infringement of one or more of claims 1, 4, and 10 of the '233 patent; claims 1, 5, 9, 14, 16, 18, 21, 24, 25, and 28 of the '116 patent; claims 1, 3, 14, 15, 17, 18, 20, 30, 36, 49, 60, and 61 of the '749 patent; claims 1, 6, and 13 of the '163 patent; and claims 1, 3, 7, 14, 15, and 19 of the '513 patent, and whether an industry in the United States exists as required by subsection (a)(2) of section 337;

(2) For the purpose of the investigation so instituted, the following are hereby named as parties upon which this notice of investigation shall be served:

(a) The complainants are:

Epson Portland Inc., 3950 NW Aloclek Place, Hillsboro, Oregon 97124.

Epson America, Inc., 3840 Kilroy Airport Way, Long Beach, California 90806.

Seiko Epson Corporation, 3-3-5 Owa, Suwa, Nagano 392-8502, Japan.

(b) The respondents are the following entities alleged to be in violation of section 337, and are the parties upon which the complaint is to be served:

Zhuhai Nano Digital Technology Co., Ltd., No. 3 factory building, 2/F, 3 Pingxi 5th Road, Nanping State Hi-Tech Park, Zhuhai, Guangdong, China 519060.

Nano Business & Technology, Inc., d/b/a Nano Digital, d/b/a Nano Ink Spot, d/b/a Dinsink, 650 North State Street, Lake Oswego, OR 97034.

Zhuhai National Resources & Jingjie Imaging Products Co., Ltd., d/b/a Ink-Tank, Workshop 2, 1-3/F, No. 3 Qingwan 3rd Rd, Qingwan Industrial Zone, Zhuhai, Guangdong, China.

Huebon Co., Ltd., Room 1207, Wing Tuck Commercial Centre, 177-183 Wing Lok Street, Sheung Wan, Hong Kong.

Chancen Co., Ltd., Room 1207, Wing Tuck Commercial Centre,177-183 Wing Lok Street, Sheung Wan, Hong Kong.

Zhuhai Rich Imaging Technology Co., Ltd., Block 1, 3-5/F, 3 Qingwan 3rd Rd, Qingwan Industrial Zone, Sanzao, Zhuhai, Guangdong, China 519040.

Shanghai Orink Infotech International Co., Ltd., Room 307, No. 275-8 East Guoding Road, Shanghai, China 200433.

Orink Infotech International Co., Ltd., Unit 1205, 12F/L., Sino Plaza, 255 Gloucester Road, Causewat Bay, Hong Kong.

Zinyaw LLC, d/b/a TonerPirate.com, 1321 Upland Dr. # 1359, Houston, TX 77043.

Yotat Group Co., Ltd., Flat/Room 704, Bright Way Tower, 33 Mong Kok Road, Kowloon, Hong Kong.

Yotat (Zhuhai) Technology Co., Ltd., No. 127 People's East Road, Xiangzhou, Zhuhai, China.

Ourway Image Co., Ltd., Room 403, 4/F, Rirong Edifice, Building 5, No. 291 Remin West Road, Xiangzhou, Zhuhai, China.

Kingway Image Co., Ltd., 4/F, Building 1, No. 1 Ping Dong Road 2, Nanping Industry Park, Zhuhai, China.

Zhuhai Chinamate Technology, Co., Ltd., Room 1504/1508/1511, No# 125 Renmin East Road, Xiangzhou, Zhuhai, China.

InkPro2day, LLC, 1200 Santee Street, Suite 1006, Los Angeles, CA 90015.

Dongguan OcBestjet Printer Consumables Co., Ltd., Block F01, 4/F, Jingyefang Industrial Park, No. 351, Jian'an Road, Wusha Village, Chang'an Town, Dongguan, China.

OcBestjet Printer Consumables (HK) Co., Ltd., RM 2301, 23 F/L, Worldwide House, 19 Des Voeux Road Central, Hong Kong.

Aomya Printer Consumables (Zhuhai) Co., Ltd, Rm #412, Henghe Business Building, No. 313 East Renmin Road, Xiangzhou, Zhuhai, Guangdong, China.

Zhuhai Richeng Development Co., Ltd., d/b/a Richeng Technology, Building No. 5, Nanshan Industrial Zone, 10 Shihua 3rd Street, Jida, Zhuhai, China 519015.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: January 21, 2015.
By order of the Commission.
Lisa R. Barton,
Secretary to the Commission

[FR Doc. 2015-01353 Filed 1-26-15; 8:45 am]

BILLING CODE 7020-02-P